DEPARTMENT OF LABOR

Occupational Safety and Health Administration

[Docket No. OSHA-2011-0034]

Subpart A (“General Provisions”) and Subpart B (“Confined and Enclosed Spaces and Other Dangerous Atmospheres in Shipyard Employment”); Extension of the Office of Management and Budget's (OMB) Approval of Information Collection (Paperwork) Requirements

AGENCY: Occupational Safety and Health Administration (OSHA), Labor.

ACTION: Request for public comments.

SUMMARY: OSHA solicits public comments concerning its proposal to extend the Office of Management and Budget's (OMB) approval of the information collection requirements, subpart A (“General Provisions”) and subpart B (“Confined and Enclosed Spaces and Other Dangerous Atmospheres in Shipyard Employment”).

DATES: Comments must be submitted (postmarked, sent, or received) by December 15, 2017.

ADDRESSES:

Electronically: You may submit comments and attachments electronically at http://www.regulations.gov, which is the Federal eRulemaking Portal. Follow the instructions online for submitting comments.

Facsimile: If your comments, including attachments, are not longer than 10 pages you may fax them to the OSHA Docket Office at (202) 693-1648.

Mail, hand delivery, express mail, messenger, or courier service: When using this method, you must submit a copy of your comments and attachments to the OSHA Docket Office, Docket No. OSHA-2011-0034, Occupational Safety and Health Administration, U.S. Department of Labor, Room N-3653, 200 Constitution Avenue NW., Washington, DC 20210. Deliveries (hand, express mail, messenger, and courier service) are accepted during the Department of Labor's and Docket Office's normal business hours, 10:00 a.m. to 3:00 p.m., e.t.

Instructions: All submissions must include the Agency name and the OSHA docket number (OSHA-2011-0034) for the Information Collection Request (ICR). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download from the Web site. All submissions, including copyrighted material, are available for inspection and copying at the OSHA Docket Office. You may also contact Theda Kenney at the address below to obtain a copy of the ICR.

FOR FURTHER INFORMATION CONTACT: Theda Kenney or Todd Owen, Directorate of Standards and Guidance, OSHA, U.S. Department of Labor, Room N-3609, 200 Constitution Avenue NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accord with the Paperwork Reduction Act of 1995 (PRA-95) (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

The following is a description of the requirements in subparts A and B that pertain to the collection and retention of information.

One provision in subpart A contains paperwork requirements (§ 1915.7). Section 1915.7(b)(2) specifies that shipyard employers must maintain a roster of designated competent persons (for inspecting and testing spaces covered by subpart B), or a statement that a marine chemist will perform these inspections and tests. Section 1915.7(d) requires employers to ensure that competent persons, marine chemists, and certified industrial hygienists (CIHs) make a record of each inspection and test they conduct, post the record near the covered space while work is in progress, and retain the record for at least three months. In addition, employers must make the roster or statement, and the inspection and test records available for inspection by designated parties.

Subpart B consists of several standards governing entry into confined and enclosed spaces and other dangerous atmospheres in shipyard employment. These standards require that employers:

• Ensure that competent persons conduct inspections and atmospheric testing prior to workers entering a confined or enclosed space (§§ 1915.12(a)-(c));

• Warn workers not to enter hazardous spaces and other dangerous atmospheres (§ 1915.12 (a)-(c) and § 1915.16);

• Certify that workers who will be entering confined or enclosed spaces have been trained (§ 1915.12(d)(5));

• Establish and train shipyard rescue teams or arrange for outside rescue teams, and provide them with information on the hazards that they may encounter (§ 1915.12(e));

• Ensure that one person on each rescue team maintains a current first aid training certificate (§ 1915.12(e)(1)(iv));

• Exchange information regarding hazards, safety rules, and emergency procedures concerning confined and enclosed spaces, and atmospheres with other employers whose workers may enter these spaces and atmospheres (§ 1915.12(f));

• Ensure testing of spaces having contained bulk quantities of combustible or flammable liquids or gases, and toxic, corrosive, or irritating substances before cleaning and other cold work is started, and as necessary thereafter while the operations are ongoing (§§ 1915.13(b)(2) and (4));

• Post signs prohibiting ignition sources within or near a space that has contained bulk quantities of flammable or combustible liquids or gases (§ 1915.13(b)(10));

• Ensure that confined and enclosed spaces and other dangerous atmospheres, and boundaries of spaces or pipelines are tested before workers perform hot work in these work areas (§ 1915.14(a)(1));

• Post certificates of testing conducted by a marine chemist or Coast Guard authorized person, indicating it is “Safe for Hot Work,” in the immediate vicinity of the hot-work operation while the operation is in progress (§ 1915.14(a)(2)). Where testing of a space or an adjacent space is performed by a competent person, marine chemist or Coast Guard authorized person and determined to be “Not Safe for Hot Work,” a warning label must be affixed (§ 1915.14(b)(2)); and

Retain certificates of testing on file for at least three months after completing the operation (§ 1915.14(a)(2)).

II. Special Issues for Comment

OSHA has a particular interest in comments on the following issues:

• Whether the proposed information collection requirements are necessary for the proper performance of the Agency's functions, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting that OMB extend its approval of the collection of information (paperwork) requirements mandated by Subpart A (“General Provisions”) and Subpart B (“Confined and Enclosed Spaces and Other Dangerous Atmospheres in Shipyard Employment”) of 29 CFR part 1915. The Agency is requesting an adjustment increase of 247,083 burden hours (from 338,981 to 586,064 hours). The adjustment increase is due to an increase in the number of establishments affected by these standards.

The Agency will summarize the comments submitted in response to this notice and will include this summary in its request to OMB.

Type of Review: Extension of a currently approved collection.

Title: Subpart A (“General Provisions”) and Subpart B (“Confined and Enclosed Spaces and Other Dangerous Atmospheres in Shipyard Employment”) (29 CFR part 1915).

OMB Control Number: 1218-0011.

Affected Public: Business or other for-profits; Not-for-profit organizations; Federal Government; State, Local or Tribal Government.

Number of Respondents: 4,871.

Frequency of Responses: On occasion.

Total Responses: 3,495,964.

Average Time per Response: Various.

Estimated Total Burden Hours: 586,064.

Estimated Cost (Operation and Maintenance): $0.

IV. Public Participation—Submission of Comments on This Notice and Internet Access to Comments and Submissions

You may submit comments in response to this document as follows: (1) Electronically at http://www.regulations.gov, which is the Federal eRulemaking Portal; (2) by facsimile (fax); or (3) by hard copy. All comments, attachments, and other material must identify the Agency name and the OSHA docket number (Docket No. OSHA-2011-0034) for the ICR. You may supplement electronic submissions by uploading document files electronically. If you wish to mail additional materials in reference to an electronic or facsimile submission, you must submit them to the OSHA Docket Office (see the section of this notice titled ADDRESSES). The additional materials must clearly identify your electronic comments by your name, date, and the docket number so the Agency can attach them to your comments.

Because of security procedures, the use of regular mail may cause a significant delay in the receipt of comments. For information about security procedures concerning the delivery of materials by hand, express delivery, messenger, or courier service, please contact the OSHA Docket Office at (202) 693-2350, (TTY (877) 889-5627).

Comments and submissions are posted without change at http://www.regulations.gov. Therefore, OSHA cautions commenters about submitting personal information such as social security numbers and date of birth. Although all submissions are listed in the http://www.regulations.gov index, some information (e.g., copyrighted material) is not publicly available to read or download from this Web site. All submissions, including copyrighted material, are available for inspection and copying at the OSHA Docket Office. Information on using the http://www.regulations.gov Web site to submit comments and access the docket is available at the Web site's “User Tips” link. Contact the OSHA Docket Office for information about materials not available from the Web site, and for assistance in using the Internet to locate docket submissions.

V. Authority and Signature

Loren Sweatt, Deputy Assistant Secretary of Labor for Occupational Safety and Health, directed the preparation of this notice. The authority for this notice is the Paperwork Reduction Act of 1995 (44 U.S.C. 3506 et seq.) and Secretary of Labor's Order No. 1-2012 (77 FR 3912).

Signed at Washington, DC, on October 5, 2017.
Loren Sweatt,
Deputy Assistant Secretary of Labor for Occupational Safety and Health.

[FR Doc. 2017-22268 Filed 10-13-17; 8:45 am]

BILLING CODE 4510-26-P